DEPARTMENT OF TRANSPORTATION

Federal Highway Administration

Notice of Funding Availability for the Tribal Transportation Program Safety Funds

AGENCY: Federal Highway Administration (FHWA), Department of Transportation (DOT).

ACTION: Notice of funding availability.

SUMMARY: This notice announces the availability of funding and requests grant applications for FHWA's Tribal Transportation Program Safety Funds (TTPSF). In addition, this notice identifies selection criteria, application requirements, and technical assistance during the grant solicitation period for the TTPSF.

The TTPSF is authorized within the Tribal Transportation Program (TTP) under the Moving Ahead for Progress in the 21st Century Act (MAP-21). The FHWA will distribute these funds as described in this notice on a competitive basis in a manner consistent with the selection criteria.

DATES: Applications must be submitted through ttpsf@dot.gov no later than 5 p.m., e.t. on June 30, 2014 (the “application deadline”). Applicants are encouraged to submit applications in advance of the application deadline; however, applications will not be evaluated, and awards will not be made until after the application deadline.

The FHWA plans to conduct outreach regarding the TTPSF in the form of a Webinar on May 20, 2014 at 2:00 p.m., e.t. To join the Webinar, please click this link then enter the room as a guest: https://connectdot.connectsolutions.com/tribaltrans/. The audio portion of the Webinar can be accessed from this teleconference line: TOLL FREE 1-888-251-2909; ACCESS CODE 4442306. The Webinar will be recorded and posted on FHWA's Web site at: http://www.flh.fhwa.dot.gov/programs/ttp/safety/. A TDD is available for individuals who are deaf or hard of hearing at 202-366-3993.

ADDRESSES: Applications must be submitted electronically to ttpsf@dot.gov.

FOR FURTHER INFORMATION CONTACT: For further information concerning this notice please contact Russell Garcia, TTPSF Program Manager, via email at russell.garcia@dot.gov; by telephone at 202-366-9815; or by mail at Federal Highway Administration, 1200 New Jersey Avenue SE., Washington, DC 20590. Office hours are from 8:00 a.m. to 4:30 p.m. e.t., Monday through Friday, except Federal holidays. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

SUPPLEMENTARY INFORMATION: On August 5, 2013, FHWA published the first notice of funding availability for the TTPSF (78 FR 47480). On November 13, 2013, FHWA awarded 183 tribes a total of $8.6 million for 193 projects to improve transportation safety on tribal lands. The FHWA is publishing this notice to announce the availability of an additional round of funding and request grant applications.

Table of Contents

I. Background

II. Eligibility

A. Entities Eligible To Apply for Funding

B. Eligible Uses of Funds

III. Selection Criteria and Policy Considerations

A. Safety Plans and Safety Planning Activities (funding goal 40% of TTPSF)

B. Engineering Improvements (Funding Goal 30% of TTPSF)

C. Enforcement and Emergency Services Improvements (Funding Goal 20% of TTPSF)

D. Education Programs (Funding Goal 10% of TTPSF)

IV. Evaluation Process

V. Application Process

A. Contents of Applications

B. Standard Form 424, Applications for Federal Assistance

C. Narrative (Attachment to SF-424)

D. Contact Information

VI. Program Funding and Award

VII. Consultation

I. Background

On July 6, 2012, President Obama signed into law MAP-21 (Pub. L. 112-141), which authorizes TTPSF as a set aside of not more than 2 percent of the funds made available under the TTP for each of Fiscal Years (FY) 2013 and 2014. Section 202(e) of title 23, United States Code (U.S.C.), provides that the funds are to be allocated based on an identification and analysis of highway safety issues and opportunities on tribal lands, as determined by the Secretary, on application of the Indian tribal governments for eligible projects described in 23 U.S.C. 148(a)(4). Eligible projects described in section 148(a)(4) include strategies, activities, and projects on a public road that are consistent with a State strategic highway safety plan and correct or improve a hazardous road location or feature, or address a highway safety problem.

Section 202(e) further specifies that in applying for TTPSF, an Indian tribal government, in cooperation with the Secretary of the Interior and, as appropriate, with a State, local government, or metropolitan planning organization, shall select projects from the transportation improvement program (TIP), subject to the approval of the Secretary of Transportation and the Secretary of the Interior.

II. Eligibility

A. Entities Eligible To Apply for Funding

Section 202(e) specifies that TTPSF are to be made available to Indian tribal governments. Accordingly, consistent with other FHWA funding provided to tribes, any federally recognized tribe identified on the list of “Indian Entities Recognized and Eligible to Receive Services from the Bureau of Indian Affairs” (published at 77 FR 47868) is eligible to apply for TTPSF.

B. Eligible Uses of Funds

Under section 202(e), projects for which Indian tribal governments may apply are highway safety improvement projects eligible under the Highway Safety Improvement Program as described in 23 U.S.C. 148(a)(4). Projects eligible for funding may include strategies, activities, or projects on a public road that are included in a State Strategic Highway Safety Plan (SHSP) and correct or improve a hazardous road location or feature, or address a highway safety problem.¹ This includes infrastructure and non-infrastructure strategies, activities or projects including education activities. For purposes of the TTPSF, for a project to be consistent with a State's SHSP, it must be data-driven or address a priority in an applicable tribal transportation safety plan that considers the priorities and strategies addressed in the State SHSP. To be considered eligible for TTPSF, roadway or transportation facilities improvement projects also must be: (1) included in the tribe's official National Tribal Transportation Facility Inventory, as identified in 23 U.S.C. 202(b)(1), and (2) listed in the TIP.

¹ Examples of eligible HSIP projects include but are not limited to the projects set for in 23 U.S.C. 148(a)(4)(B).

III. Selection Criteria and Policy Considerations

The FHWA will award TTPSF funds based on the selection criteria and policy considerations as outlined below.

The FHWA shall give priority consideration to eligible projects under 23 U.S.C. 148(a)(4) that fall within one of the following four categories:

(1) safety plans and safety planning activities;

(2) engineering improvements;

(3) enforcement and emergency services improvements; and

(4) education programs.

The priority categories were determined in consultation with the Tribal Transportation Program Coordinating Committee (TTPCC) ² and are intended to strengthen safety plans and safety planning activities in tribal transportation while also directing resources to needed safety improvements. The categories are also consistent with the FHWA SHSP for Indian Lands which has as its mission to, “Implement effective transportation safety programs to save lives while respecting Native American culture and tradition by fostering communication, coordination, collaboration, and cooperation.” ³ These categories are also consistent with the Tribal Safety Management Implementation Plan (TSMIP). The TSMIP recognizes that, “tribal safety plans are an essential component and an effective planning tool for prioritizing and implementing safety solutions.” ⁴ The TSMIP also states that “reducing highway fatalities and serious injuries with any sustained success requires that all four elements (4Es) of highway safety be addressed—engineering, enforcement, education, and emergency services. A Tribal Safety Program, whether large or small, should work to address the 4Es, and its foundation, data.”

² The TTPCC is a committee established in 25 CFR Part 170 and is charged with providing input and recommendations to the Bureau of Indian Affairs (BIA) and FHWA in developing TTP policies and procedures. Its members are appointed by the Secretary of the Interior and represent all 12 BIA Regions. Tribal consultation is described further in Section VIII of this notice.

³ The Strategic Safety Plan of Indian Lands is available at: http://flh.fhwa.dot.gov/programs/ttp/safety/documents/strategic-hsp.pdf.

⁴ The SMS Implementation Plan is available at: http://flh.fhwa.dot.gov/programs/ttp/safety/documents/sms-implementation.pdf.

The FHWA will allocate the TTPSF among the four categories as follows: (1) Safety plans and safety planning activities (40 percent); (2) engineering improvements (30 percent); (3) enforcement and emergency services improvements (20 percent); and (4) education programs (10 percent). These funding goals were established with the TTPCC and will be reviewed annually and may be adjusted to reflect current tribal transportation safety priorities and needs. These proposed allocation amounts provide substantial funding for tribal safety plans to reflect the strong need that has been identified in this area and to ensure that all tribes have an opportunity to assess their safety needs and prioritize safety projects. The remaining proposed allocation amounts were established based on the significant need for transportation related capital improvement projects, while still allowing for applications that would cover all 4Es of safety.

A. Safety Plans and Safety Planning Activities (Funding Goal 40 Percent of TTPSF)

The development of a tribal safety plan that is data driven, identifies transportation safety issues, prioritizes activities, is coordinated with the State SHSP and promotes a comprehensive approach to addressing safety needs by including all 4Es is a critical step in improving highway safety. Additional information on developing a tribal safety plan can be found at: http://flh.fhwa.dot.gov/programs/ttp/safety/.

Accordingly, FHWA will award TTPSF for developing and updating tribal safety plans, and other safety planning activities. Eligible uses of funds are described in Section II of this notice and example projects are listed in 23 U.S.C. 148(a)(4), which can be found at: http://www.fhwa.dot.gov/map21/docs/title23usc.pdf.

The FHWA will use the following criteria in the evaluation of TTPSF funding requests for tribal safety plans: (1) development of a tribal safety plan where none currently exists; and (2) age or status of an existing tribal safety plan.

The FHWA will use the following criteria in the evaluation of TTPSF funding requests for safety planning activities: (1) Inclusion of the activity in a completed State SHSP or tribal transportation safety plan that is no more than 5 years old; (2) submission of supporting data that demonstrates the need for the activity; (3) leveraging of private or other public funding; (4) or the project is part of a comprehensive approach to safety which includes other safety efforts.

Examples of eligible safety planning activities include, but are not limited to:

• Collection, analysis, and improvement of safety data; and

• Road safety assessments.

B. Engineering Improvements (Funding Goal 30 Percent of TTPSF)

Eligible uses of funds are described in Section II of this notice and example projects are listed in 23 U.S.C. 148(a)(4), which can be found at: http://www.fhwa.dot.gov/map21/docs/title23usc.pdf.

The FHWA will use the following criteria in the evaluation of funding requests for engineering improvements: (1) Inclusion of the activity in a completed State SHSP or tribal transportation safety plan that is no more than 5 years old; (2) inclusion of the activity in a completed road safety audit, engineering study, impact assessment or other engineering document; (3) submission of supporting data that demonstrates the need for the project; (4) ownership of the facility; (5) leveraging of private or other public funding; (6) years since the tribe has last received funding for an TTPSF engineering improvement project; (7) or the project is part of a comprehensive approach to safety which includes other safety efforts.

Examples of eligible engineering improvement projects include, but are not limited to:

• Intersection safety improvements;

• Pavement and shoulder widening (including addition of a passing lane to remedy an unsafe condition);

• Installation of rumble strips or another warning device, if the rumble strips or other warning devices do not adversely affect the safety or mobility of bicyclists and pedestrians, including persons with disabilities;

• Installation of a skid-resistant surface at an intersection or other location with a high frequency of crashes;

• Improvements for pedestrian or bicyclist safety or safety of persons with disabilities;

• Construction and improvement of railway-highway grade crossing safety feature;

• Installation of protective devices;

• Construction of a traffic calming feature;

• Elimination of a roadside hazard;

• Installation, replacement, and other improvement of highway signage and pavement markings, or a project to maintain minimum levels of retro reflectivity that addresses a highway safety;

• Installation of a traffic control or other warning device at a location with high crash potential;

• Installation of guardrails, barriers (including barriers between construction work zones and traffic lanes for the safety of road users and workers), and crash attenuators;

• The addition or retrofitting of structures or other measures to eliminate or reduce crashes involving vehicles and wildlife;

• Installation of yellow-green signs and signals at pedestrian and bicycle crossings and in school zones;

• Construction and operational improvements on high risk rural roads;

• Geometric improvements to a road for safety purposes that improve safety;

• Roadway safety infrastructure improvements consistent with the recommendations included in the publication of the FHWA entitled “Highway Design Handbook for Older Drivers and Pedestrians”;

• Truck parking facilities eligible for funding under section 1401 of the MAP-21;

• Systemic safety improvements; and

• Transportation-related safety projects for modes such as trails, docks, boardwalks, ice roads, and others that are eligible for TTP funds.

C. Enforcement and Emergency Services Improvements (Funding Goal 20 Percent of TTPSF)

Eligible uses of funds are described in Section II of this notice and example projects are listed in 23 U.S.C. 148(a)(4), which can be found at: http://www.fhwa.dot.gov/map21/docs/title23usc.pdf.

The FHWA will use the following criteria in the evaluation of funding requests for enforcement and emergency services improvements: (1) Inclusion of the activity in a completed State SHSP or tribal transportation safety plan that is no more than 5 years old; (2) submission of supporting data that demonstrates the need for the project; (3) leveraging of private or other public funding; (4) or the project is part of a comprehensive approach to safety which includes other safety efforts.

Examples of eligible enforcement and emergency services improvement activities include, but are not limited to:

• The conduct of a model traffic enforcement activity at a railway-highway crossing;

• Installation of a priority control system for emergency vehicles at signalized intersections; and

• Planning integrated interoperable emergency communications equipment, operational activities, or traffic enforcement activities (including police assistance) relating to work zone safety.

D. Education Programs (Funding Goal 10 Percent of TTPSF)

Eligible uses of funds are described in Section II of this notice and example projects are listed in 23 U.S.C. 148(a)(4), which can be found at: http://www.fhwa.dot.gov/map21/docs/title23usc.pdf.

The FHWA will use the following criteria in the evaluation of funding requests for education projects: (1) Inclusion of the activity in a completed State SHSP or tribal transportation safety plan that is no more than 5 years old; (2) submission of supporting data that demonstrates the need for the project; (3) leveraging of private or other public funding; (4) or the project is part of a comprehensive approach to safety which includes other safety efforts.

Examples of eligible education activities include, but are not limited to:

• Safety Management System Implementation Plan activities;

• Public service announcements; and

• Programs implemented to inform the public or address behaviors that affect transportation safety.

IV. Evaluation Process

The TTPSF grant applications will be evaluated in accordance with the below discussed evaluation process. The FHWA will establish an evaluation team to review each application received by FHWA prior to the application deadline. The evaluation team will be led by FHWA and will include members from the Bureau of Indian Affairs (BIA). The team will include technical and professional staff with relevant experience and expertise. The evaluation teams will be responsible for evaluating and rating all of the projects.

All applications will be evaluated and assigned a rating of “Highly Qualified,” “Qualified,” or “Not Qualified.” The ratings, as defined below, are proposed within each priority funding category as follows:

1. Safety Plans and Safety Planning Activities

A. Development of Tribal Safety Plans

a. Highly Qualified: requests (up to a maximum of $12,500) for development of new tribal safety plans or to update incomplete tribal safety plans; and requests (up to a maximum of $7,500.00) to update existing tribal safety plans that are more than 3 years old.

b. Not Qualified: projects that do not meet the eligibility requirements; any request to update an existing tribal safety plan that is less than 3 years old.

B. Other Safety Planning Activities

a. Highly Qualified: requests for other safety planning activities that are in a current State SHSP or tribal safety plan that is not more than 5 years old; submission of data that demonstrates the need for the activities; significant leveraging of private or public funding; and are part of a comprehensive approach to safety which includes other safety efforts.

If the number of applications rated as “highly qualified” exceeds the amount of available funding, FHWA will give priority funding consideration to selecting one or more components of a project but only to the extent that the components have independent utility. Priority consideration will also be given the level of the commitment of other funding sources to complement the TTPSF funding request, and where the applicants demonstrate the capacity to successfully implement the proposed project in a timely manner.

b. Qualified: requests for other safety planning activities that are in a current State SHSP or tribal safety plan that is more than 5 years old; submission of some data that demonstrates the need for the activity; some leveraging of private or public funding; and are part of a comprehensive approach to safety which includes other safety efforts.

If the number of applications rated as “qualified” exceeds the amount of available funding, FHWA will give priority funding consideration to selecting one or more components of a project but only to the extent that the components have independent utility. Priority consideration will also be given the level of the commitment of other funding sources to complement the TTPSF funding request, and where the applicants demonstrate the capacity to successfully implement the proposed project in a timely manner.

c. Not Qualified: projects that do not meet the eligibility requirements; projects that are not included in a State SHSP or tribal safety plan.

2. Engineering Improvements

a. Highly Qualified: efforts that are in a current State SHSP or tribal safety plan that is less than 5 years old; data included in the application that directly supports the project; project is in a current road safety audit, impact assessment, or other safety engineering study; projects located on a BIA or tribal facility; significant leverage with other funding; the tribe has not received funding for a TTPSF transportation safety construction project in more than 10 years or the project is part of a comprehensive approach to safety which includes three or more other safety efforts.

If the number of applications rated as “highly qualified” exceeds the amount of available funding, FHWA will give priority funding consideration to selecting one or more components of a project but only to the extent that the components have independent utility. Priority consideration will also be given to the level of the commitment of other funding sources to complement the TTPSF funding request, and where the applicants demonstrate the capacity to successfully implement the proposed project in a timely manner.

b. Qualified: efforts that are in a current State SHSP or tribal safety plan, but the plan is more than 5 years old; some data included in the application that supports the project; project is in a road safety audit, impact assessment, or other safety engineering study that is more than 5 years old; project is located on a transportation facility not owned by a tribe or BIA; some leveraging with other funding; the tribe has not received funding for a TTPSF transportation safety construction project in the last 2 to 10 years or the projects is part of a coordinated approach with one to two other safety efforts.

If the number of applications rated as “qualified” exceeds the amount of available funding, FHWA will give priority funding consideration to selecting one or more components of a project but only to the extent that the components have independent utility. Priority consideration will also be given to the level of the commitment of other funding sources to complement the TTPSF funding request, and where the applicants demonstrate the capacity to successfully implement the proposed project in a timely manner.

c. Not Qualified: projects that do not meet the eligibility requirements; are not included in a State SHSP or tribal safety plan; no data provided in the application to support the request; are not included in a road safety audit, impact assessment, or other safety engineering study; have received funding for a TTPSF transportation safety construction project within the last 2 years or do not have a comprehensive approach to safety with other partners.

3. Enforcement and Emergency Services

a. Highly Qualified: efforts that are in a current State SHSP or tribal safety plan that is less than 5 years old; data included in the application that directly supports the requested project, significant leverage with other funding or are part of a comprehensive approach to safety, including three or more other safety efforts.

If the number of applications rated as “highly qualified” exceeds the amount of available funding, FHWA will give priority funding consideration to selecting one or more components of a project but only to the extent that the components have independent utility. Priority consideration will also be given to the level of the commitment of other funding sources to complement the TTPSF funding request, and where the applicants demonstrate the capacity to successfully implement the proposed project in a timely manner.

a. Qualified: efforts that are in a current State SHSP or tribal safety plan but the plan is more than 5 years old; some data included in the application that supports the project; some leveraging with other funding or are coordinated with one to two other safety efforts.

If the number of applications rated as “qualified” exceeds the amount of available funding, FHWA will give priority funding consideration to selecting one or more components of a project but only to the extent that the components have independent utility. Priority consideration will also be given to the level of the commitment of other funding sources to complement the TTPSF funding request, and where the applicants demonstrate the capacity to successfully implement the proposed project in a timely manner.

c. Not Qualified: projects that do not meet the eligibility requirements; are not included in a State SHSP or tribal safety plan; no data provided in the application that supports the project does not have a comprehensive approach to safety with other partners.

4. Education Programs

a. Highly Qualified: efforts that are in a current State SHSP or tribal safety plan that is less than 5 years old; data included in the application that directly supports the requested project; significant leverage with other funding or are part of a comprehensive approach to safety including three or more other safety efforts.

If the number of applications rated as “highly qualified” exceeds the amount of available funding, FHWA will give priority funding consideration to selecting one or more components of a project but only to the extent that the components have independent utility. Priority consideration will also be given to the level of the commitment of other funding sources to complement the TTPSF funding request, and where the applicants demonstrate the capacity to successfully implement the proposed project in a timely manner.

b. Qualified: efforts that are in a current State SHSP or tribal safety plan but the plan is more than 5 years old; some data included in the application that supports the project; some leveraging with other funding or are coordinated with one to two other safety efforts.

If the number of applications rated as “qualified” exceeds the amount of available funding, FHWA will give priority funding consideration to selecting one or more components of a project but only to the extent that the components have independent utility. Priority consideration will also be given to the level of the commitment of other funding sources to complement the TTPSF funding request, and where the applicants demonstrate the capacity to successfully implement the proposed project in a timely manner.

c. Not Qualified: projects that do not meet the eligibility requirements; are not included in a State SHSP or tribal safety plan; no data provided in the application that supports the project does not have a comprehensive approach to safety with other partners.

V. Application Process

A. Contents of Applications

The applicants must include all of the information requested below in their applications. The FHWA may request any applicant to supplement the data in its application, but encourages applicants to submit the most relevant and complete information the applicant could provide. The FHWA also encourages applicants, to the extent practicable, to provide data and evidence of project merits in a form that is publicly available or verifiable.

B. Standard Form 424, Applications for Federal Assistance

A complete application must consist of: (1) The Standard Form 424 (SF 424) available at http://flh.fhwa.dot.gov/programs/ttp/safety.

C. Narrative (Attachment to SF 424)

Applicants must attach a supplemental narrative to their submission through ttpsf@dot.gov to successfully complete the application process. The applicant must include the supplemental narrative in the attachments section of the SF 424 mandatory form.

The applicant must identify in the project narrative the eligibility category under which the project identified in the application fits. The applicant also should respond to the application requirements below. The FHWA recommends that the application be prepared with standard formatting preferences (e.g. a single-spaced document, using a standard 12-point font, such as Times New Roman, with 1-inch margins).

An application must include any information needed to verify that the project meets the statutory eligibility criteria as well as other information required for FHWA to assess each of the criteria specified in Section III (Selection Criteria). Applicants are required to demonstrate the responsiveness of their proposal to any pertinent selection criteria with the most relevant information that applicants can provide, regardless of whether such information is specifically requested, or identified, in the final notice. Applicants should provide evidence of project milestones, financial capacity, and commitment in order to support project readiness.

Consistent with the requirements for an eligible highway safety improvement project under 23 U.S.C. 148(a)(4), applicants must describe clearly how the project would correct or improve a hazardous road location or feature, or would address a highway safety problem. The application must include supporting data.

For ease of review, FHWA recommends that the project narrative generally adhere to the following basic outline, and include a table of contents, project abstract, maps, and graphics:

1. Project Abstract: Describe project work that would be completed under the project, the hazardous road location or feature or the highway safety problem that the project would address, and whether the project is a complete project or part of a larger project with prior investment (maximum five sentences). The project abstract must succinctly describe how this specific request for TTPSF would be used to complete the project.

2. Project Description: (including information on the expected users of the project, a description of the hazardous road location or feature or the highway safety problem that the project would address, and how the project would address these challenges);

3. Applicant information and coordination with other entities (identification of the Indian tribal government applying for TTPSF, description of cooperation with other entities in selecting projects from the TIP as required under 23 U.S.C. 202(e)(2), information regarding any other entities involved in the project);

4. Grant Funds and Sources/Uses of Project Funds (information about the amount of grant funding requested for the project, availability/commitment of funds sources and uses of all project funds, total project costs, percentage of project costs that would be paid for with the TTPSF, and the identity and percentage shares of all parties providing funds for the project (including Federal funds provided under other programs);

5. A description of how the proposal meets the Selection Criteria identified in Section III (Selection Criteria and Policy Considerations) and the statutory eligibility criteria as described in Section II (Eligibility).

D. Contact Information

The applicant must include contact information requested as part of the SF-424. The FHWA will use this information if additional application information is needed or to inform parties of FHWA's decision regarding selection of projects. Contact information should be provided for a direct employee of the lead applicant. Contact information for a contractor, agent, or consultant of the lead applicant is insufficient for FHWA's purposes.

VI. Program Funding and Award

Section 1101 of MAP-21 authorized $450,000,000 for the TTP for each of FY 2013 and 2014. Section 1119 of MAP-21 amends 23 U.S.C. 202(e) to provide that not more than 2 percent of such funds made available for the TTP may be allocated for TTPSF. Accordingly, FHWA expects that a maximum of $9,000,000 could be made available in 2014 for TTPSF. The FHWA anticipates high demand for this limited amount of funding and encourages applications with scalable requests that allow more tribes to receive funding; and for requests that identify a commitment of other funding sources to complement the TTPSF funding request. Applicants should show the capacity to successfully implement the proposed request in a timely manner, and ensure that cost estimates and timelines to complete deliverables are included in their application to be given full consideration.

VII. Consultation Process

The DOT issued Order 5301.1, “Department of Transportation Programs, Policies, and Procedures Affecting American Indians, Alaska Natives, and Tribes” on November 16, 1999. This Order affirmed the DOT's and its Modal Administrations' unique legal relationship with Indian tribes, established DOT's consultation and coordination process with Indian tribes for any action that may significantly or uniquely affect them, and listed goals for Modal Administrations to meet when carrying out policies, programs, and activities affecting American Indians, Alaska Natives, and tribes. The Department affirms its commitment to these principles, and those set forth in Executive Order 13175 and the President's November 5, 2009, memorandum in establishing the DOT Consultation Plan dated March 4, 2010, and found at: http://www.dot.gov/sites/dot.dev/files/docs/Tribal%20Consultation%20Plan.pdf.

Authority: Section 1119 of Pub. L. 112-141; 23 U.S.C. 202(e).

Dated: May 7, 2014.
Gregory Nadeau,
Deputy Administrator.

[FR Doc. 2014-11074 Filed 5-13-14; 8:45 am]

BILLING CODE 4910-22-P